DEPARTMENT OF COMMERCE

National Institute of Standards and Technology

National Conference on Weights and Measures 2024 Interim Meeting

AGENCY: National Institute of Standards and Technology, Commerce.

ACTION: Notice.

SUMMARY: The 2024 Interim Meeting of the National Conference on Weights and Measures (NCWM) will be held in-person at the Royal Sonesta New Orleans in New Orleans, Louisiana from Sunday, January 7, 2024, through Wednesday, January 10, 2024. This notice contains information about some, but not all, significant agenda items of the NCWM committees. As a result, the items are not consecutively numbered.

DATES: The 2024 NCWM Interim Meeting will be held from Sunday, January 7, 2024, through Wednesday, January 10, 2024. The meeting schedule will be available on the NCWM website at www.ncwm.com.

ADDRESSES: This meeting will be held at the Royal Sonesta New Orleans, with an address at 300 Bourbon Street, New Orleans, Louisiana 70130.

FOR FURTHER INFORMATION CONTACT: Dr. Katrice Lippa, NIST, Office of Weights and Measures, 100 Bureau Drive, Stop 2600, Gaithersburg, MD 20899-2600. You may also contact Dr. Lippa at (301) 975-3116 or by email at katrice.lippa@nist.gov. The meeting is open to the public, but the payment of a registration fee is required. Please see the NCWM website (www.ncwm.com) to view the meeting agendas, registration forms, and hotel reservation information.

SUPPLEMENTARY INFORMATION: Publication of this notice on the NCWM's behalf is undertaken as a public service and does not itself constitute an endorsement by the National Institute of Standards and Technology (NIST) of the content of the notice. NIST participates in the NCWM as an NCWM member and pursuant to 15 U.S.C. 272(b)(10) and (c)(4) and in accordance with Federal policy (e.g., OMB Circular A-119 “Federal Participation in the Development and Use of Voluntary Consensus Standards”).

The NCWM is an organization of weights and measures officials of the states, counties, and cities of the United States, and representatives from the private sector and federal agencies. These meetings bring together government officials and representatives of business, industry, trade associations, and consumer organizations on subjects related to the field of weights and measures technology, administration, and enforcement. NIST hosted the first meeting of the NCWM in 1905. Since then, the conference has provided a model of cooperation between Federal, State, and local governments and the private sector. NIST participates in the NCWM to provide technical insights and expertise and encourage cooperation between the private sector, federal agencies, and the states in the development of legal metrology requirements. NIST also promotes uniformity in state laws, regulations, and testing procedures used in the regulatory control of commercial weighing and measuring devices, packaged goods, and for other trade and commerce issues.

The NCWM has established multiple committees, task groups, and other working bodies to address legal metrology issues of interest to, inter alia, regulatory officials, industry representatives, and consumers. Comments will be taken by the various NCWM committees on agenda items during the open hearing portions of the conference identified in the meeting schedule. At this stage, the items are proposals. The open hearing sessions are accessible to all registered attendees of the conference, including both NCWM members and non-members. The conference also includes committee work sessions in which the committees may, inter alia, accept comments, withdraw or carryover agenda items that need additional maturation, and develop recommendations for the agenda items for consideration and possible adoption at the NCWM 109th Annual Meeting.

These notices are intended to make interested parties aware of significant agenda items and alert them to the committees' intentions to share reports on the status of each at the 2024 NCWM Interim Meeting. The notices are also presented to invite the participation of manufacturers, experts, consumers, users, and others who may be interested in these efforts.

The following are brief descriptions of some of the significant agenda items that will receive further consideration by the standing committees at the upcoming 2024 NCWM Interim Meeting. The full agenda of each standing committee is provided in NCWM Publication 15 (ncwm.com/publication-15). Comments will be taken on recommendations intended to amend NIST Handbook 44, “Specifications, Tolerances, and Other Technical Requirements for Weighing and Measuring Devices” (NIST HB 44), NIST Handbook 130, “Uniform Laws and Regulations in the Areas of Legal Metrology and Fuel Quality” (NIST HB 130), and NIST Handbook 133, “Checking the Net Contents of Packaged Goods” (NIST HB 133). The NIST Handbooks are regularly adopted by the states, either by reference or through administrative procedures.

NCWM S&T Committee

The NCWM Specifications and Tolerances Committee (S&T Committee) will consider proposed amendments to NIST HB 44, including those identified below. A detailed technical review of the S&T Committee agenda items will be made available prior to the 2024 NCWM Interim Meeting in the 2024 NIST OWM Interim Technical Analysis at https://www.nist.gov/pml/owm/publications/owm-technical-analysis.

SCL—Scales

SCL-23.3. Verification Scale Division e: Multiple Sections.

The S&T Committee will consider a proposal submitted by the NCWM Verification Scale Division e Task Group that has an Assigned Status and is intended to update NIST Handbook 44, Section 2.20 Scales to:

1. Clarify how error is determined in relation to the verification scale division (e) and the scale division (d)

2. Clarify which is the proper reference; the verification scale division (e) or the scale division (d) throughout this section

3. Ensure proper selection of a scale in reference to the verification scale division (e) and the scale division (d)

4. Clarify the relationship between the verification scale division (e) and the scale division (d).

WIM—Weigh-In-Motion Systems

WIM-23.1. 2.26 Weigh-in-Motion Systems Used for Vehicle Direct Enforcement.

The S&T Committee will consider a proposal submitted by New York City DOT, C2SMART, Kistler, and Maryland DOT that has an Informational Status. The proposal to include a new Section 2.26. Weigh-in-Motion Systems Used for Vehicle Direct Enforcement to NIST HB 44 is intended to provide a legal document that can be used by local and State agencies to certify Weigh-In-Motion (WIM) systems used for automated weight enforcement.

EVF—Electric Vehicle Fueling Systems

EVF-24.1. S.1.3. Mobile Device as Indicating Element for AC Chargers.

The S&T Committee will consider a proposal submitted by Siemens Industry Inc.'s Smart Infrastructure eMobility; it is intended to clarify that use of a hand-held mobile device such as a mobile phone to provide the Indicating Elements for an EVSE is an acceptable alternative to having the Indicating Elements built into the EVSE. This option is already accepted by the National Type Evaluation Program for certification.

EVF-23.4. S.5.2. EVSE Identification and Marking Requirements, S.5.3. Abbreviations and Symbols, and N.5. Test of an EVSE System.

The S&T Committee will consider a proposal submitted by Power Measurements LLC that is intended to update the existing required tests in NIST HB 44 (Section 3.40. Electric Vehicle Fueling Systems) that are used to determine the accuracy of alternating current (AC) and direct current (DC) systems. The proposal has a Developing status and would expand the number of test points over a specific range of operating conditions for the test of an electric vehicle supply equipment (EVSE) system. The S&T Committee has requested that stakeholders present an alternate proposal by exploring the option of combining the test procedures in this proposal with the test procedures and related terminology under consideration in EVF-23.7, a proposal submitted by Electrify America.

EVF-23.6. S.5.2. EVSE Identification and Marking Requirements, and T.2. Tolerances. The S&T Committee will consider a proposal submitted by the Florida Department of Agriculture and Consumer Services, Electrify America, Tesla, EVGo, and Siemens. This proposal was revised by the S&T Committee after comments during the 2023 NCWM Interim and Annual Meetings, and it would amend NIST HB 44, Section 3.40, to allow DC systems placed in service prior to January 1, 2024, that are marked as a Class 5 device, to have an error of ± 5% through 2034. DC systems installed on or after January 1, 2024, would be required to comply with the current 1% (acceptance)/2% (maintenance) tolerance.

LPG—Liquefied Petroleum Gas and Anhydrous Ammonia Liquid-Measuring Devices

LPG-24.2. S.2.5. Zero-Set-Back Interlock.

The S&T Committee will consider a proposal submitted by the National Propane Gas Association; it is intended to address practical issues that propane retailers encounter when trying to comply with the zero setback requirements for propane stationary meters in NIST HB 44.

LPG-23.1. S.2.5. Zero-Set-Back Interlock.

The S&T Committee will consider a proposal submitted by the National Propane Gas Association and U-Haul International. The proposal has an Informational status and addresses issues that propane retailers encounter that do not have dispensers typically designed to be used to dispense retail motor fuel when trying to comply with zero-set-back interlock requirements in NIST HB 44 for electronic stationary and electronic vehicle-mounted propane meters and stationary retail motor-fuel devices used to dispense propane. The intent of the proposal is to exempt the required use of zero-set-back interlock mechanisms when a device is used in multiple applications to dispense liquefied petroleum gas as a vehicle motor-fuel and in filling containers/cylinders for other than motor-fuel applications.

OTH—Other Items

OTH 16.1. Electric Watthour Meters Tentative Code.

The S&T Committee will consider a proposal submitted by NIST, Office of Weights and Measures, which has an Informational status and is intended to make stakeholders aware of the work being done within the NIST U.S. National Work Group (USNWG) on Electric Vehicle Fueling and to develop proposed requirements for electric watthour meters used in submeter applications in residences and businesses (not intended to address utility metering under the authority of entities such as the local utility commission).

NCWM L&R Committee

The NCWM Laws and Regulations Committee (L&R Committee) will consider proposed amendments to NIST HB 133, including those identified below. A detailed technical review of the L&R Committee agenda items will be made available prior to the 2024 NCWM Interim Meeting in the 2024 NIST OWM Interim Analysis at https://www.nist.gov/pml/owm/publications/owm-technical-analysis.

NET—NIST Handbook 133

NET-24.1. Section 3.11. Ice Cream Novelties.

The L&R Committee will consider a proposal submitted by the County of Los Angeles Department of Agriculture Commissioner/Weights and Measures to modify NIST HB 133, Section 3.11. Ice Cream Novelties. The proposal would, inter alia, provide technical guidance on the preparation and maintenance of ice water at the required temperature to test ice cream novelties.

NET-24.2. Section 4.9. Procedure for Checking the Contents of Specific Agriculture Seed Packages Labeled by Count and Appendix D. AOSA Rules for Testing Seeds.

The L&R Committee will consider a proposal submitted by the Louisiana Department of Agriculture and Forestry to align NIST HB 133, Section 4.9. Procedure for Checking the Contents of Specific Agriculture Seed Packages Labeled by Count and Appendix D. AOSA Rules for Testing Seeds with recent changes to Association of Official Seed Analyst (AOSA) Rules. This proposal would provide a standardized mechanical seed counter calibration procedure for all models of mechanical seed counters being used across the United States, to determine the number of seeds per pound and/or for the purpose of packaging seeds by count.

Tamiko Ford,
NIST Executive Secretariat.

[FR Doc. 2023-28485 Filed 12-26-23; 8:45 am]

BILLING CODE 3510-13-P